DEPARTMENT OF COMMERCE

National Oceanic and Atmospheric Administration

[I.D. 060601B]

Pacific Fishery Management Council; Public Meeting

AGENCY: National Marine Fisheries Service (NMFS), National Oceanic and Atmospheric Administration (NOAA), Commerce.

ACTION: Notice of public meeting.

SUMMARY: The Pacific Fishery Management Council's (Council) Groundfish Stock Assessment Review (STAR) Panels will hold consecutive work sessions to review assessment information for shortspine thornyhead/Dover sole, and for sablefish. These meetings are open to the public.

DATES: The STAR Panel for shortspine thornyhead and Dover sole will meet beginning at 8 a.m., July 9, 2001 and continue through July 12, 2001. The STAR Panel for sablefish will meet beginning at 8 a.m., July 13, 2001 and continue through July 16, 2001. The STAR Panels will meet each day from 8 a.m. to 5 p.m.

ADDRESSES: The STAR Panel meetings will be held in the Marilyn Potts Guin Library, at the Hatfield Marine Science Center, Oregon State University, 2030 South Marine Science Drive, Newport, OR 97365.

Council address: Pacific Fishery Management Council, 7700 Ambassador Place, Suite 200, Portland, OR 97220-1384.

FOR FURTHER INFORMATION CONTACT: Chuck Tracy or Dan Waldeck, Staff Officers; telephone: (503) 326-6352.

SUPPLEMENTARY INFORMATION: Two meetings will be held consecutively, the first from July 9-12, 2001; the second from July 13-16, 2001. The purpose of the first meeting is to review assessments of shortspine thornyhead and Dover sole. The purpose of the second meeting is to review assessments of sablefish. The STAR Panels will work with stock assessment teams to make necessary revisions to assessment documents and produce STAR Panel reports for use by the Council family and other interested persons.

Although non-emergency issues not contained in STAR Panel agendas may come before the STAR Panel for discussion, those issues may not be the subject of formal Panel action during this meeting. STAR Panel action will be restricted to those issues specifically listed in this notice, and any issues arising after publication of this notice that require emergency action under section 305(c) of the Magnuson-Stevens Fishery Conservation and Management Act, provided the public has been notified of the Panel's intent to take final action to address the emergency.

Special Accommodations

The meeting is physically accessible to people with disabilities. Requests for sign language interpretation or other auxiliary aids should be directed to Ms. Carolyn Porter at (503) 326-6352 at least 5 days prior to the meeting date.

Dated: June 12, 2001.
Richard W. Surdi,
Acting Director, Office of Sustainable Fisheries, National Marine Fisheries Service.

[FR Doc. 01-15192 Filed 6-15-01; 8:45 am]

BILLING CODE 3510-22-S